DEPARTMENT OF JUSTICE

[OMB Number 1121-0355]

Agency Information Collection Activities; Proposed eCollection eComments Requested; Reinstatement, With Change, of a Previously Approved Collection for Which Approval Has Expired: 2023 National Census of Victim Service Providers

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until June 5, 2023.

FOR FURTHER INFORMATION CONTACT: If you have comments especially on the estimated public burden or associated response time, suggestions, or need a copy of the proposed information collection instrument with instructions or additional information, please contact Rachel Morgan, Bureau of Justice Statistics, 810 Seventh Street NW, Washington, DC 20531 (email: Rachel.Morgan@usdoj.gov; telephone: 202-598-9237).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Reinstatement, with change, of a previously approved collection for which approval has expired.

2. Title of the Form/Collection: 2023 National Census of Victim Service Providers (NCVSP).

3. Agency form number, if any, and the applicable component of the Department of Justice sponsoring the collection: There is no form number for the questionnaire. The applicable component within the Department of Justice is the Bureau of Justice Statistics (BJS), in the Office of Justice Programs. BJS requests clearance for the 2023 NCVSP under OMB Control No. 1121-0355. The NCVSP was last approved under OMB Control No. 1121-0355 (exp. date 05/31/2019).

4. Affected public who will be asked or required to respond, as well as a brief abstract: Programs and organizations that have been identified as providing services to victims of crime or abuse will be asked to respond.

The 2023 NCVSP will be the second administration of this data collection. The NCVSP provides national data on all programs and organizations that served victims of crime or abuse within the year prior to the survey. The NCVSP identifies the size and scope of the victim service provider (VSP) field, including the number of VSPs, where they are located, the number of victims they serve, and information about funding and staffing. Information from the NCVSP provides a sampling frame for follow-up surveys on victim service providers, including BJS's National Survey of Victim Service Providers.

5. An estimate of the total number of respondents and the amount of time estimated for an average respondent to respond: Similar to the 2017 NCVSP, the first administration of the NCVSP, about 15% of the 20,000 VSPs on the current roster will no longer be in operation, will have stopped providing services to crime victims, or will be allied organizations that do not themselves directly assist victims. For those 3,000 out-of-scope organizations, the burden will be less than 5 minutes. For the remaining 17,000 active victim service providers, it will take the average interviewed respondent an estimated 30 minutes to respond. There are an estimated 8,750 total burden hours associated with this information collection. These estimates are based on previous estimates of item burden and input received from participants in the 2023 NCVSP cognitive testing procedures (generic OMB clearance, Control No. 1121-0339).

If additional information is required, contact: John R. Carlson, Department Clearance Officer, United States Department of Justice, Justice Management Division, Policy and Planning Staff, Two Constitution Square, 145 N Street NE, 4W-218, Washington, DC 20530.

Dated: March 30, 2023.
John R. Carlson,
Department Clearance Officer for PRA, Policy and Planning Staff, U.S. Department of Justice.

[FR Doc. 2023-07020 Filed 4-4-23; 8:45 am]

BILLING CODE 4410-18-P